DEPARTMENT OF HEALTH AND HUMAN SERVICES

Food and Drug Administration

[Docket No. FDA-2010-N-0001]

Pulmonary-Allergy Drugs Advisory Committee; Amendment of Notice

AGENCY: Food and Drug Administration, HHS.

ACTION: Notice.

SUMMARY: The Food and Drug Administration (FDA) is announcing an amendment to the notice of a meeting of the Pulmonary-Allergy Drugs Advisory Committee. This meeting was announced in the Federal Register of February 2, 2010 (75 FR 5334). The amendment is being made to reflect a change in the Name of Committee portion of the document. There are no other changes.

FOR FURTHER INFORMATION CONTACT: Kristine T. Khuc, Center for Drug Evaluation and Research (HFD-21), Food and Drug Administration, 5600 Fishers Lane (for express delivery, 5630 Fishers Lane, rm. 1093), Rockville, MD 20857, 301-827-7001, FAX: 301-827-6776, e-mail: Kristine.Khuc@fda.hhs.gov, or FDA Advisory Committee Information Line, 1-800-741-8138 (301-443-0572 in the Washington DC area), code 3014512545. Please call the Information Line for up-to-date information on this meeting.

SUPPLEMENTARY INFORMATION: In the Federal Register of February 2, 2010, FDA announced that a meeting of the Pulmonary-Allergy Drugs Advisory Committee would be held on March 10 and 11, 2010. On page 5334, in the second column, the Name of Committee portion of the document is changed to read as follows:

Name of Committees: Joint Meeting of the Pulmonary-Allergy Drugs Advisory Committee and the Drug Safety and Risk Management Advisory Committee.

This notice is issued under the Federal Advisory Committee Act (5 U.S.C. app. 2) and 21 CFR part 14, relating to the advisory committees.

Dated: February 18, 2010.
Jill Hartzler Warner,
Acting Associate Commissioner for Special Medical Programs.

[FR Doc. 2010-3595 Filed 2-23-10; 8:45 am]

BILLING CODE 4160-01-S